FEDERAL TRADE COMMISSION

Granting of Request for Early Termination of the Waiting Period Under the Premerger Notification Rules

Section 7A of the Clayton Act, 15 U.S.C. 18a, as added by Title II of the Hart-Scott-Rodin Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted September 1, 2011 Thru September 30, 2011
09/01/2011
20111162 | G | Health Management Associates, Inc.; Catholic Health Partners; Health Management Associates, Inc.
09/02/2011
20110573 | G | DaVita Inc.; CDSI I Holding Company, Inc.; DaVita Inc.
20110687 | G | Dawson Geophysical Company; TGC Industries, Inc.; Dawson Geophysical Company.
20110858 | G | Precision Castparts Corp.; Paul L. Briles, Inc.; Precision Castparts Corp.
20111317 | G | Hajoca Corporation; HDS Investment Holding, Inc.; Hajoca Corporation.
20111319 | G | International Equipment Solutions, LLC; Dover Corporation; International Equipment Solutions, LLC.
20111320 | G | Providence Equity Partners VI L.P.; The Fourth Viscount Rothermere; Providence Equity Partners VI L.P.
20111321 | G | Compagnie de Saint-Gobain; NV Bekaert SA; Compagnie de Saint-Gobain.
20111323 | G | WPP plc; Steven Wayne Clark; WPP plc.
20111326 | G | JS Group Corporation; Cima Claddings S.A.; JS Group Corporation.
09/06/2011
20111328 | G | Chico's FAS, Inc.; Boston Proper, Inc.; Chico's FAS, Inc.
09/07/2011
20111241 | G | Acer Incorporated; iGware, Inc.; Acer Incorporated.
20111266 | G | Consumer Portfolio Services, Inc.; Unitrin, Inc.; Consumer Portfolio Services, Inc.
09/08/2011
20111269 | G | VWarburg Pincus Private Equity X, L.P.; Adam S. Bold; Warburg Pincus Private Equity X, L.P.
20111296 | G | Blackstone Capital Partners VI, L.P.; Emdeon Inc.; Blackstone Capital Partners VI, L.P.
20111313 | G | Boyd Gaming Corporation; Engelstad Family Foundation; Boyd Gaming Corporation.
09/09/2011
20111274 | G | Armor TPG Holdings LLC; Armstrong World Industries, Inc. Asbestos Personal Injury; Armor TPG Holdings LLC.
20111287 | G | Kieppe Patrimonial Ltda; The Dow Chemical Company; Kieppe Patrimonial Ltda.
09/12/2011
20111107 | G | Fiserv, Inc.; CashEdge Inc.; Fiserv, Inc.
20111302 | G | Crestview Partners II, L.P.; Cumulus Media Inc.; Crestview Partners II, L.P.
20111310 | G | HTC Corporation; Ms. Cher Wang; HTC Corporation.
20111334 | G | Hisdesat Servicios Estrategicos, S.A.; Loral Space & Communications Inc.; Hisdesat Servicios Estrategicos, S.A.
20111340 | G | TrueCar, Inc.; DealerTrack Holdings, Inc.; TrueCar, Inc.
20111341 | G | DealerTrack Holdings, Inc.; TrueCar, Inc.; DealerTrack Holdings, Inc.
20111343 | G | Holly Energy Partners, L.P.; HollyFrontier Corporation; Holly Energy Partners, L.P.
20111344 | G | Lockheed Martin Corporation; Spectrum Equity Investors IV, L.P.; Lockheed Martin Corporation.
20111348 | G | Alinda Infrastructure Fund II, L.P.; ArcLight Energy Partners Fund IV, LP; Alinda Infrastructure Fund H, L.P.
20111352 | G | TA XI L.P.; Aicent, Inc.; TA XI L.P.
20111357 | G | NGL Energy Partners LP; Vincent J. Osterman; NGL Energy Partners LP.
20111358 | G | NGL Energy Partners LP; Ernest Osterman; NGL Energy Partners LP.
20111360 | G | Smiths Group plc; Bertram Growth Capital I, L.P.; Smiths Group plc.
20111361 | G | Valero Energy Corporation; Murphy Oil Corporation; Valero Energy Corporation.
20111363 | G | Wells Fargo & Company; Cargill, Incorporated; Wells Fargo & Company.
20111364 | G | Cumulus Media Inc.; Citadel Broadcasting Corporation; Cumulus Media Inc.
20111367 | G | Insight Equity II LP; Merit Mezzanine Fund IV, L.P.; Insight Equity II LP.
09/13/2011
20111329 | G | General Dynamics Corporation; The Veritas Capital Fund III, L.P.; General Dynamics Corporation.
20111332 | G | Energy Capital Partners II-A, LP; Strategic Value Restructuring Fund, Ltd.; Energy Capital Partners II-A, LP.
20111350 | G | Advent (OT) Cayman Ltd.; Francois-Charles Oberthur SAS; Advent (OT) Cayman Ltd.
20111362 | G | Ladenburg Thalmann Financial Services Inc.; Ameriprise Financial, Inc.; Ladenburg Thalmann Financial Services Inc.
09/14/2011
20111150 | G | National Oilwell Varco, Inc.; Ameron International Corporation; National Oilwell Varco, Inc.
09/15/2011
20111342 | G | Glazer's, Inc.; Halo Distributing co.; Glazer's, Inc.
20111355 | G | Michael R. Bloomberg; The Bureau of National Affairs, Inc.; Michael R. Bloomberg.
09/16/2011
20111143 | G | S1 Corporation; Nochi Dankner; S1 Corporation.
20111167 | S1 | Nochi Dankner; G Corporation; Nochi Dankner.
20111339 | G | Noble Energy, Inc.; JV, LLC; Noble Energy, Inc.
20111368 | G | Time Warner Cable Inc.; Insight Communications Company, Inc.; Time Warner Cable Inc.
20111375 | G | International Business Machines Corporation; Silver Lake Sumeru Fund Cayman, L.P.; International Business Machines Corporation.
20111390 | G | RPM International Inc.; Skagit Northwest Holdings, Inc.; RPM International Inc.
09/19/2011
20111346 | G | Liquidity Services, Inc.; WGD, Inc.; Liquidity Services, Inc.
20111365 | G | Liberty Media Corporation; Barnes & Noble, Inc.; Liberty Media Corporation.
09/20/2011
20111325 | G | SPX Corporation; Clyde Blowers Capital Fund II, LP; SPX Corporation.
20111331 | G | Permira IV Continuing L.P. 2; Terrance D. and Judith A. Paul; Permira IV Continuing L.P. 2.
20111372 | G | Alere Inc.; John T. Rich, Sr.; Alere Inc.
20111373 | G | ARAMARK Holdings Corporation; Green Mountain Coffee Roasters, Inc.; ARAMARK Holdings.
09/21/2011
20111376 | G | William Robertson; FirstEnergy Corp.; William Robertson.
20111380 | G | LS Power Equity Partners II, L.P.; NextEra Energy, Inc.; LS Power Equity Partners II, L.P.
20111381 | G | Welsh, Carson, Anderson & Stowe XI, L.P.; Community Care Health Network, Inc.; Welsh, Carson, Anderson & Stowe XI, L.P.
20111383 | G | Carlyle U.S. Growth Fund III, L.P.; WH Blocker, Inc.; Carlyle U.S. Growth Fund III, L.P.
09/22/2011
20111327 | G | Biglari Holdings, Inc.; Cracker Barrel Old Country Store, Inc.; Biglari Holdings, Inc.
20111366 | G | Baker Brothers Life Sciences, L.P.; Pharmacyclics, Inc.; Baker Brothers Life Sciences, L.P.
09/23/2011
20111385 | G | Sinclair Broadcast Group, Inc.; Cerberus Institutional Partners, L.P.; Sinclair Broadcast Group, Inc.
20111387 | G | Computershare Limited; Shinsei Bank, Limited; Computershare Limited.
20111391 | G | BMG RM Investments Luxembourg S.a.r.l; Spectrum Equity Investors V, L.P.; BMG RM Investments Luxembourg S.a.r.l.
20111395 | G | NGL Energy Partners LP; SemGroup Corporation; NGL Energy Partners LP.
20111396 | G | Warburg Pincus Private Equity X, L.P.; Arlington Capital Partners II, L.P.; Warburg Pincus Private Equity X, LP.
20111400 | G | FREI Bravo AIV, L.P.; First ECA Holdings LLC; FREI Bravo AIV, L.P.
20111404 | G | Hyosung Corporation; Global Safety Textiles HoldCo One GmbH; Hyosung Corporation.
09/26/2011
20111378 | G | Trencap s.e.c.; Central Vermont Public Service Corp.; Trencap s.e.c.
20111394 | G | Halliburton Company; James B. Archer; Halliburton Company.
20111402 | G | Teradyne, Inc.; LitePoint Corporation; Teradyne, Inc.
20111410 | G | Summit Midstream Partners, LLC; Encana Corporation; Summit Midstream Partners, LLC.
09/27/2011
20111333 | G | Blackstone Capital Partners V L.P.; Welsh, Carson, Anderson & Stowe X, L.P.; Blackstone Capital Partners V LP.
20111345 | G | E. Merck KG; Amnis Corporation; E. Merck KG.
20111379 | G | Trencap s.e.c.; Vermont Transco LLC; Trencap s.e.c.
09/28/2011
20110839 | G | Temasek Holdings (Private) Limited; Level 3 Communications, Inc.; Temasek Holdings (Private) Limited.
20110840 | G | Level 3 Communications, Inc.; Temasek Holdings (Private) Limited; Level 3 Communications, Inc.
09/29/2011
20111384 | G | GTCR Fund X/B LP; Terrance R. Ahem; GTCR Fund X/B LP.
20111403 | G | Philip F. Anschutz; The Oklahoma Publishing Company; Philip F. Anschutz.
09/30/2011
20111377 | G | Atlas Capital Resources (A2-Cayman) LP; International Paper Company; Atlas Capital Resources (A2-Cayman) LP.
20111399 | G | Stryker Corporation; Concentric Medical, Inc.; Stryker Corporation.
20111405 | G | Global Advanced Metals Pty Ltd; Cabot Corporation; Global Advanced Metals Pty Ltd.
20111411 | G | Cameron International Corp.; Joy Global Inc.; Cameron International Corp.
20111416 | G | Hellman & Friedman Capital Partners VII, L.P.; Carlyle Partners V. L.P.; Hellman & Friedman Capital Partners VII, LP.
20111417 | G | Ronald O. Perelman; M&F Worldwide Corp.; Ronald O. Perelman.
20111418 | G | International Business Machines Corporation; Marc Ladreit de Lacharriere; International Business Machines Corporation.
20111426 | G | Platinum Equity Capital Partners II, L.P.; Carlyle Strategic Partners, L.P.; Platinum Equity Capital Partners II, L.P.
20111436 | G | Littlejohn Fund IV, L.P.; CHS Private Equity V LP; Littlejohn Fund IV, L.P.

FOR FURTHER INFORMATION CONTACT: Renee Chapman, Contact Representative, or Theresa Kingsberry, Legal Assistant, Federal Trade Commission, Premerger Notification Office Bureau of Competition, Room H-303, Washington, DC 20580, (202) 326-3100.

By direction of the Commission.
Donald S. Clark,
Secretary.

[FR Doc. 2011-26796 Filed 10-17-11; 8:45 am]

BILLING CODE 6750-01-M